ENVIRONMENTAL PROTECTION AGENCY

[FRL-7619-4]

Adoption of the CEC Strategic Plan for North American Cooperation in the Conservation of Biodiversity; Response to Comments

AGENCY: Environmental Protection Agency (EPA).

ACTION: Notice.

SUMMARY: On March 21, 2003, EPA published a Notice of Availability (68 FR 13930) for review of the final draft of the Strategic Plan for North American Cooperation in the Conservation of Biodiversity (Strategic Plan). Final preparation of the Strategic Plan was based on negotiations with counterparts in Canada and Mexico, discussions with representatives of the United States Biodiversity Conservation Working Group (BCWG), the United States BCWG interagency working group, and consideration of comments received under the March 2003 Notice of Availability. The Strategic Plan was adopted by the Commission for Environmental Cooperation's (CEC) Council on June 25, 2003, as specified in CEC Resolution 03-07, under the North American Agreement on Environmental Cooperation. The Strategic Plan will be used to guide the CEC Council, its BCWG, and the CEC Secretariat in their work with stakeholders in cooperatively defining and implementing mutually beneficial biodiversity conservation activities in North America.

This Federal Register document provides responses to comments that were received during the comment period for the March 2003 notice of availability. All comments received on the notice of availability were considered by the United States delegation in the development of the final Strategic Plan. However, final negotiations for the Strategic Plan, initiation of a ranking process for priority areas for action listed in the Strategic Plan, and other program commitments caused a delay in publishing the United States government responses.

Responses to Comments: During the comment period on the notice of availability, EPA received 6 comment letters and noted oral comments during a meeting held in Washington, DC on April 3, 2003. The comments covered several categories. The following responses to the comments have been prepared by category:

1. Compliments and praise for the draft Strategic Plan. The United States delegation appreciates the support and positive feedback expressed by commenters for the draft Strategic Plan. Resolution 03-07 of the CEC Council also recognized “* * * the guidance of the Biodiversity Conservation Working Group in the development of the CEC Biodiversity Strategic Plan and the input from governmental and nongovernmental organizations, indigenous and local communities, academia, and the private sector * * *” in reaching final agreement on the Strategic Plan.

2. The Strategic Plan should be set forth in an action plan. Now that the Strategic Plan has been approved by the CEC Council, representatives of Canada, Mexico and the United States will work closely with the CEC Secretariat to develop a 5-year action plan. The action plan will be implemented in the CEC's annual work plan.

3. Increase the CEC budget to support the Strategic Plan. The CEC's budget for all programs and administrative activities is limited to the annual contributions agreed by the Parties. Though many commenters as for a budget increase, including representatives of the Trilateral Committee for Wildlife and Ecosystem Conservation and Management in a May 2003 resolution and representatives of the CEC's Biodiversity Conservation Working Group, the Parties will have to work with the CEC Secretariat to determine how project funds are allocated. In Resolution 03-07, the CEC Council directed the Secretariat “* * * to coordinate and seek partners, additional funds, and diverse input regarding the implementation of the CEC Biodiversity Strategic Plan, keeping the BCWG informed of developments.” The United States delegation will work with the other Parties to assist the Secretariat in achieving the CEC Council's directive.

4. Use existing priority setting systems and greater stakeholder involvement. The United States delegation has been sensitive to these comments. Incorporation of comments from nongovernmental organizations on the Strategic Plan through the March 2003 notice of availability and coordination with state agencies as direct members of the United States BCWG is a positive step forward in stakeholder involvement. We have increased our efforts to inform tribal governments in the United States and to seek input from nongovernmental organizations to rank the 29 priority areas for action that are listed in the Strategic Plan.

5. Include a flow diagram of the BCWG's relationship to the CEC management structure in the Strategic Plan. The United States delegation made this request to the CEC Secretariat. However, the CEC Secretariat was not prepared to provide such a figure in the Strategic Plan because program management changes are planned. An organizational chart is proposed for the CEC's 2004 Operational Plan.

6. Avoid duplication of management efforts with existing programs and committees. In May 2003, the BCWG met with the members of the Trilateral Committee for Wildlife and Ecosystem Conservation and Management at their Albuquerque, NM meeting. This meeting was effective in coordinating the activities of these two organizations involved in North American biodiversity issues. The BCWG intends to hold its annual meetings to coincide with future Trilateral Committee meetings, which will facilitate coordination on North American biodiversity issues. The BCWG will also coordinate its activities with other organizations that are concerned with transboundary biodiversity issues. Avoiding duplication of environmental management efforts is essential given the limited resources that the parties have to address continental biodiversity problems.

7. Elevate the role of States and take advantage of State agency expertise to promote decentralized natural resource management. One of the cornerstones of the United States BCWG is a representative from a State wildlife management agency. Through our State representative, contact with other State wildlife management agencies is promoted and comments are channeled to the other three Representatives of the BCWG and corresponding Federal agencies. Both State and Federal environmental managers and their personnel, working directly in the field, are a significant resource in the conservation of biodiversity for North America. The United States BCWG appreciates the dedication of State and Federal field personnel to the protection of transboundary and domestic biological resources.

8. Insert a reference to the International Association of Fish and Wildlife Agencies (IAFWA) in the Strategic Plan. References to specific organizations, such as the IAFWA, were initially considered in the development of the Strategic Plan. However, the list of agencies grew so large, and there was concern that one or more agencies might be left out inadvertently, that the decision of the parties was to mention agencies and organizations in a generic sense. Therefore, a reference to the IAFWA was not included in the Strategic Plan.

9. Emphasize the role of private lands in the conservation of biodiversity. In the discussion about Ecologically Significant Regions, the following statement was added to support the role of private lands in the conservation of biodiversity: “The three countries recognize that public and private multiple-use and other non-preservation lands can play a variety of roles in conservation of biodiversity.” This broad statement demonstrates agreement by the Parties that networks of protected areas and private lands are important components in protection of North American biodiversity.

10. Provide an assessment of wildlife protection legislation and address international agreements and legislation to support biodiversity. The United States delegation did not request including an assessment of each party's wildlife protection legislation in the Strategic Plan because this CEC's Conservation of Biodiversity Program is an international program under the North American Agreement on Environmental Cooperation (NAACE). Each country is responsible for implementing its own domestic laws and for complying with its commitments under ratified international conventions or agreements for which they are a party. This Strategic Plan is focused on the agreements of the parties under NAACE. An assessment of all wildlife protection legislation and other treaties that address biodiversity was not considered appropriate for this document.

11. Think continentally or regionally and act locally. The success of regional conservation efforts is measured by the degree to which the composite of local actions have achieved success. Ideally local and regional objectives support each other. The United States delegation acknowledges the concern that large-scale objectives might miss small-scale detailed priorities. We agree that a suite of approaches and tactics will produce a comprehensive conservation plan. For the CEC Conservation of Biodiversity Program, there is a bias towards regionally shared ecosystems and transboundary species because the CEC program has a large-scale and regional focus. The BCWG is aware of this issue. As the Biodiversity Program is developed, the BCWG will consider environmental management alternatives that address transboundary species and their habitats, as well as sensitive species or ecosystems that may influence the richness of North America's biodiversity.

12. Specific comments on the CEC's Priority Ecoregion Report. The United States delegation agrees that there are numerous priority setting processes designed to refine priority areas for conservation. We agree that the CEC Biodiversity Conservation Working Group would do well to consider the contributions made in identifying priority regions by Conservation International, World Wildlife Fund, The Nature Conservancy, and other conservation initiatives. Previous work completed by the CEC was presented in the Strategic Plan to document work accomplished and to provide a baseline. We acknowledge the commenter's concerns regarding specific areas of interest, including the Klamath-Siskiyou forests and watersheds of northern California and southern Oregon. We agree with your comments that ongoing biodiversity surveys and inventories being conducted by leading NGOs should be used by CEC Programs, and we agree that, with scant resources, it makes no sense to repeat any process or study, unless a comparison of the success of a selected management option is the intended result.

Regarding questions about gap analyses, the wording on ER-1 is designed to allow flexibility and broad interpretation to preserve options for future work. Future refinements to priority regions of North America will evaluate the need to include other significant regions. Also, Comments regarding the potential values of connective corridors are acknowledged. The language in the Strategic Plan is general enough to accommodate such, without listing all specifics. Since the U.S. has not signed the Convention on Biological Diversity, directly mirroring the work of the CBD is not a requirement, though it is a consideration. We feel that the thrust of the Strategic Plan is fully compatible within ecosystem approaches to conservation.

13. The Strategic Plan should conserve all species, especially threatened resident species, not just migratory or transboundary species, and species with large ranges may tend to be adaptable generalists. The United States supports collaborative efforts to conserve and restore cross-boundary populations of species, especially species of common conservation concern. Selected marine and terrestrial species of common conservation concern have been identified for conservation activities by the parties. In the future, other species may be added to the lists based on criteria developed by the BCWG and agreed to by the parties. The following tables contain the current lists of the CEC's Species of Common Conservation Concern:

Terrestrial Species of Common Conservation Concern
Ferruginous hawk | Buteo regalis
Peregrine falcon | Falco peregrinus
Loggerhead shrike | Lanius ludovicianus
Piping plover | Charadrius melodus
Mountain plover | Charadrius montanus
Burrowing owl | Athene cunicularia
Northern spotted owl | Strix occidentalis caurina
Mexican spotted owl | Strix occidentalis lucida
Golden-cheeked warbler | Dendroica chrysoparia
Whooping crane | Grus Americana
California condor | Gymnogyps californianus
Black-tailed prairie dog | Cynomys ludovicianus
Sonoran pronghorn | Antilocapra Americana sonoriensis
Lesser long-nosed bat | Leptonycteris curasoae
Mexican long-nosed bat | Leptonycteris nivalis
Black bear | Ursus americanus
Gray wolf | Canis lupus

Marine Species of Common Conservation Concern
Leatherback turtle | Dermochelys coriacea
Hawksbill turtle | Eretmochelys imbricata
Kemp's ridley turtle | Lepidochelys kempii
East Pacific green/black turtle | Chelonia mydas agassizii
Loggerhead turtle | Caretta caretta
Pink-footed shearwater | Puffinus creatopus
Short-tailed albatross | Phoebastria albatrus
Xantus's murrelet | Synthlibiramphus hypoleucus
North Atlantic right whale | Eubalaena glacialis
North Pacific right whale | Eubalaena japonica
Gray Whale | Eschrichtius robustus
Humpback whale | Megaptera novaeangliae
Blue whale | Balaenoptera musculus
Killer whale | Orcinus orca
Vaquita | Phocoena sinus
Guadalupe fur seal | Arctocephalus townsendi
Sea otter | Enhydra lutris

14. Support the North American Information Network (NABIN) and better describe its linkages with partners and its complementary role with other networks and databases. The United States BCWG acknowledges the value of NABIN, and particularly the need for linking it to other networks and clearinghouses. We agree with many commenters regarding the value of working with existing programs such as the Natural Heritage Program, Nature Serve, and ConserveOnline. By building upon existing networks and databases, some of which are quite ambitious, NABIN reduces the potential for redundancy. In response to the request for a description of NABIN in the Strategic Plan, the NABIN Web site URL has been inserted to direct the reader to additional information. In response to a request that all significant NABIN partners be listed, we refrained from such a list, for the same reasons we have avoided similar lists in other contexts. They are dynamic not static, they are rarely comprehensively inclusive, and the requests for additions/insertions never end. While in concept such lists are valuable recognition to key actors and collaborators, in practice they become unmanageable, with only the time of printing providing any static picture.

15. Trinational development and assessment of scientific data. The United States BCWG acknowledges encouragement for trinational development and interpretation of scientific data based on actions supported by the Strategic Plan, including joint studies to complement existing data. The latter seems to urge research that generates data complementary to existing data, but also implies cross-border complementarities, which begin with complementary field methods and reporting units. The Strategic Plan mentions this in general terms in the following Priority Area for Action:

ER-4: “Promote the complementarity of tools, which assess the ecological integrity of habitats and transboundary ecosystems;”

CS-5: “Promote the establishment of common monitoring parameters and assessment mechanisms for marine, freshwater, and terrestrial populations of regional concern;”

AI-3 “Contribute to the establishment and strengthening of scientific and technical networks;” and

RT-3 “Facilitate the development of regional analyses, transboundary partnerships, actions, and monitoring.”

16. The Strategic Plan should include evaluation of pesticide effects on biodiversity. The Responding to Threats (RT) section of the Strategic Plan, in particular RT-3, identifies threats associated with pesticide use as a Priority Area for Action. In addition, cross-program coordination with the CEC's Sound Management of Chemicals (SMOC) program will also aid in evaluating these effects on biodiversity. Such cross-program coordination within the CEC is being discussed as an important management tool and the United States BCWG supports this type of coordination.

17. The Strategic Plan should include an evaluation of global warming and climate change effects on biodiversity. United States climate change policy is in the hands of dedicated specialized national negotiating teams outside the scope of our nation's BCWG. More significantly, the CEC budget is not adequate to address the complexity of this topic. Other international fora are more appropriate to address the climate change subject. For example, a task force to the Convention for Biological Diversity is examining the effects of climate change on biodiversity. The United States BCWG recognizes the possible effects that changes in climate might generate, but agreed that this topic should be addressed through other international conventions.

18. The Strategic Plan should support work on invasive species and link to the CEC's Law and Policy Program. The United States BCWG acknowledges commenter's appreciation for the inclusion of invasive species in the Strategic Plan. Invasive species will be an important focus for the CEC. We also agree that it is desirable to link management activities to address threats from invasive species through coordination with CEC's other programs.

19. The Strategic Plan should address loss and degradation of habitat, specifically due to oil and gas development. The threat of oil and gas development is partly addressed in Priority Area for Action RT-3 (“Facilitate the development of regional analyses, transboundary partnerships, actions, and monitoring that will address the problems caused by the release of substances to land, air and water in North America as they impact important habitats and migratory and transboundary species, and facilitate the development of recovery actions in a collaborative fashion.”). In addition, oil and gas development concerns may also be address under RT-1 (“Support and promote trinational or regional efforts to identify threats facing North American ecosystems, habitats, and species; and establish priorities for responding to these threats.”). The United States BCWG appreciates the commenter's perspective on this topic.

20. The Strategic Plan neglects agricultural policy and its effects of trade policy. Given the finite resources and the CEC's fixed budget, it may be desirable to not commit to every complex policy issue available. Agricultural policy, often contentious among governments, even without factoring in environmental aspects, is a complex arena. The CEC may be stretched to address this sensitive and dynamic landscape of issues in which its impact may be constrained. It may be difficult to influence each party's domestic agricultural policy. It may be impossible to alter trinational agricultural policies. However, there is room in the Strategic Plan, and through linkages with other CEC programs to examine agricultural policy effects on the environment. Considerations of agricultural policy potentially fit into the Biodiversity Conservation and Trade goal (BT 1-5). The CEC Environment, Economy, and Trade program, which has invested in analyses of the environmental effects of the trade liberalization, is a logical linkage for this subject.

21. Analyze the importance of the effects of trade on North American Biodiversity. The United States BCWG appreciates interest in evaluations of the impacts of Trade on biodiversity. We draw the commenter's attention to CEC's report titled: “The Environmental Effects of Free Trade,” http://cec.org/pubs_docs/scope/index.cfm?varlan=english&ID=14, http://cec.org/files/PDF/ECONOMY/111-03-05_en.pdf. The CEC has already been working on this issue, albeit in general terms as far as the parameters representing the environment. It is difficult to extract the effects of trade liberalization from multiple alternative social, economic, and environmental factors that also influence biodiversity. Also, biodiversity has not been quantified in adequate detail or scale to allow rigorous regional evaluations, which forces investigators to rely on extremely broad indices. The CEC's Conservation of Biodiversity Program will coordinate closely with the Environment, Economy, and Trade Program to address this multivariate and important topic.

Access to the Document: The Strategic Plan may be viewed on the CEC's Web site at: http://www.cec.org/programs_projects/conserv_biodiv. Copies of the Strategic Plan may be obtained by contacting Patrick Cotter via mail at: Office of International Affairs (2260R), U.S. Environmental Protection Agency, 1200 Pennsylvania Avenue, NW., Washington, DC 20460; via fax at (202) 565-2409; or via e-mail at Cotter.Patrick@epa.gov.

FOR FURTHER INFORMATION CONTACT: Patrick Cotter by telephone at (202) 564-6414 or by e-mail at Cotter.Patrick@epa.gov.

C. Thomas McCully,
Acting Assistant Administrator for International Affairs.

[FR Doc. 04-2713 Filed 2-6-04; 8:45 am]

BILLING CODE 6560-50-P